DEPARTMENT OF THE INTERIOR

National Park Service

General Management Plan for Golden Gate National Recreation Area; Marin, San Francisco, and San Mateo Counties, CA; Notice of Intent To Prepare a Draft Environmental Impact Statement

SUMMARY: Notice is hereby given that in accordance with the National Environmental Policy Act of 1969, the U.S. Department of the Interior, National Park Service is initiating the scoping process for preparation of an Environmental Impact Statement on the General Management Plan (GMP) for Golden Gate National Recreation Area (GGNRA), including Muir Woods National Monument and Fort Point National Historical Monument, in the San Francisco Bay area of California. The GMP will provide a well-grounded, clearly defined direction for resource protection and visitor management throughout the area managed by GGNRA, including Muir Woods National Monument and Fort Point National Historic Site, and lands acquired since approval of the 1980 GMP.

Consistent with NPS Planning Program Standards and the Secretary of the Interior's “Four C's” (Conservation through Consultation, Cooperation, and Communication) the GMP will: (1) Describe the purposes, significance, and primary interpretive themes of the park; (2) identify the fundamental resources and values of the park, its other important resources and values, and describe the condition of these resources; (3) describe desired conditions for cultural and natural resources and visitor experiences throughout the park and for each management unit in the park; (4) develop management zoning to support these desired conditions; (5) develop alternative applications of these management zones to the park landscape (i.e., zoning alternatives); (6) address carrying capacity; (7) analyze potential boundary modifications; (8) ensure that the GMP recommendations are developed in consultation with interested stakeholders and the public and adopted by the NPS leadership after an adequate analysis of the benefits, environmental impacts, and economic costs of alternative courses of action; and (9) identify and prioritize subsequent detailed studies, plans and actions that may be needed to implement the GMP.

In addition, the GMP will: (1) Articulate park management philosophy; (2) provide the foundation for managing park partnerships (which are critical to the successful future operation of GGNRA) and for coordinating and collaborating with adjacent public land managers; (3) provide a framework for continued public and partner stewardship of the park's resources; and (4) strive to foster an engaged constituency that will remain active in supporting the park in the future.

Scoping: Through the scoping process, the National Park Service (NPS) welcomes suggestions from the public regarding resource protection, visitor use, and management of the lands administered by GGNRA. This notice formally initiates the public scoping comment phase for the EIS process for the GMP update. All scoping comments must be postmarked or transmitted not later than 60 days after the publication of this notice—immediately upon confirmation of this date it will be announced on the park's GMP Web site (noted below). All written comments should be submitted to the following address: Brian O'Neill, Superintendent, GGNRA (Attn: GMP Team), Fort Mason, Bldg. 201, San Francisco, CA 94123 (or may be transmitted by electronic mail to goga._gmp@nps.gov or via Facsimile to (415) 561-4710).

A key purpose of the scoping process is to elicit early public comment on the GMP proposal in order to inform the development of the Draft EIS. In addition, the scoping process will help define issues or problems to be addressed in the GMP. The public is encouraged to provide comments and pertinent information on issues and concerns, goals and objectives, alternatives, and potential environmental impacts or mitigation strategies. At this time it is expected that 4 public meetings will be hosted during April 19-27, 2006. Detailed information regarding these meetings will be posted on the GMP Web site (see below). Following a short presentation regarding the project, all attendees will be given the opportunity to ask questions and provide comments to the planning team. The GMP Web site will provide the most up-to-date information regarding the project, including project description, planning process updates, meeting notices, reports and documents, and useful links associated with the project. The URL for the GMP Web site is: http://parkplanning.nps/gov/goga (once at the site, click on project name and follow the instructions). Informational messages may also be accessed at (415) 561-4965.

It is the practice of the NPS to make all comments, including names and addresses of respondents who provide that information, available for public review following the conclusion of the NEPA process. Individuals may request that the NPS withhold their name and/or address from public disclosure. If you wish to do this, you must state this prominently at the beginning of your comments. Commentators using the Web site can make such a request by checking the box “keep my contact information private”.

NPS will honor such requests to the extent allowable by law, but you should be aware that the NPS may still be required to disclose your name and address pursuant to the Freedom of Information Act.

SUPPLEMENTARY INFORMATION: Established in 1972, GGNRA is one of the largest urban national park areas in the world and one of the most highly visited units in the National Park System. GGNRA encompasses approximately 59 miles of bay and ocean shoreline in San Francisco, Marin, and San Mateo Counties, California, consisting of hay and ocean beaches, redwood forests, lagoons, control streams, marshes, military properties, and such well known sites as Alcatraz Island, Marin Headlands, Fort Mason, and two separately designated units of the National Park System—Muir Woods National Monument (established in 1908) and Fort Point National Historic Site (established in 1970). The current GMP for GGNRA was approved in 1980. In 1988, lands administered by GGNRA were included as part of the Man and the Biosphere Program which designated the Golden Gate Biosphere Reserve, a partnership of 13 protected areas within the greater San Francisco Bay area.

The total area within the boundary includes over 79,000 acres of land-approximately 47,000 acres are included in the GMP planning area. Other areas within the authorized boundary include lands and waters that are not administered by GGNR but have joint management concerns (for example, Mount Tamalpais State Park), those Federal lands within GGNRA that are managed by Point Reyes National Seashore (the area north of Bolinas-Fairfax Road), and those non-Federal public lands for which GGNRA holds an easement with certain rights and responsibilities (23,000 acres of City of San Francisco Watershed lands), as well as non-Federal lands for which GGNRA has no jurisdiction or management responsibility (private lands) but monitors development and use.

During the 25 years since the GMP for GGNRA was approved, GGNRA has been subjected to many boundary, land ownership, and management changes. The park's authorized acreage has expanded from 35,000 to over 79,000 acres, and management responsibilities for some areas have been transferred to other units in the National Park System (i.e., San Francisco Maritime National Historical Park, northern district lands, etc.). Other lands have been acquired by the National Park Service, and are now managed by GGNRA (i.e., Presidio, Fort Baker, San Mateo and Marin County lands, etc.). In addition, the park has been assigned new management responsibilities for areas such as easements over the 23,000 acre San Francisco Peninsula Watershed, former military lands, and leased tidelands. An updated GMP is needed to address these new land management responsibilities.

New planning is also needed to address changed conditions and better understanding of park resources and values. Since 1980, significant changes have occurred in public and National Park Service understanding and attitudes toward natural, cultural, and recreational resources that are managed by GGNRA. In 1980, the park was viewed primarily as an urban recreation area, and the emphasis of natural resource management was to preserve open space and natural character for the purpose of enhancing recreational opportunities within an aesthetic setting. Lands and water bodies that are within GGNRA are now highly regarded for their ecological and scientific values. Since 1980, 32 species known to occur in the park have been listed as threatened or endangered under provisions of the Endangered species Act.

Similarly, awareness of the park's cultural resources has expended significantly since 1980. Some structures that were initially proposed for demolition in the 1980 GMP have now been listed in the National Register of Historic Places (NRHP). In addition, the NPS better understands and recognizes the importance of the park's cultural landscapes. Cultural landscape inventories have identified 44 potential cultural landscapes within park boundaries that were not addressed in the 1980 GMP, and 11 cultural landscapes are now listed or have been determined eligible for listing in the NRHP.

Decision Process: At this time it is anticipated that the DEIS\GMP will be available for public review in 2009. Availability of the Draft EIS document will be formally announced through the publication of a Notice of Availability in the Federal Register, as well as through local and regional news media, direct mailing to the project mailing list, and via the Internet at http://parkplanning.nps.gov/goga. Following consideration of all agency and public comment, a Final EIS will be prepared. As a delegated EIS the official responsible for the final decision on the proposed plan is the Regional Director, Pacific West Region, subsequently the official responsible for implementation of the approved plan is the Superintendent, Golden Gate National Recreation Area.

Dated: March 20, 2006
Jonathan B. Jarvis,
Regional Director, Pacific West Region.

[FR Doc. 06-3016 Filed 3-28-06; 8:45 am]

BILLING CODE 4312-FN-M